DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before October 6, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on September 2, 2025.
Donald P. Burger,
Chief, General Approvals and Permits Branch.

Special Permits Data
Application No. | Applicant | Regulation(s) affected | Nature of the special permits thereof
22077-N | Space Exploration Technologies Corp | 172.101(k)(8), 172.300(a), 172.400(a), 173.3(a), 176.63(b), 176.116(a)(1), 176.116(e)(1), 176.138(b) | To authorize the transportation in commerce of SpaceX Starship spacecraft and its associated support equipment containing non-DOT specification packagings of hazardous materials. (modes 1, 3)
22080-N | Atlas Air, Inc | 172.101(a), 172.204(c)(3), 173.27(b)(2), 173.27(b)(3), 175.30(a)(1) | To authorize the transportation in commerce of certain Division 1.1, 1.2, 1.3, and 1.4 explosives which are forbidden or exceed quantities authorized for transport by cargo-only aircraft. (mode 4)
22082-N | W. A. Murphy, Inc | 177.835(c), 177.835(d), 177.848(e), 177.848(f) | To authorize the transportation in commerce of hazardous materials contained in a multi-purpose bulk truck in combination with a separate transport vehicle carrying additional blasting agents or emulsion. (mode 1)
22083-N | Amazon.com, Inc | 173.150(g)(1), 173.150(g)(1)(iii), 173.150(g)(2), 173.301(c) | To authorize the transportation in commerce of beverages, food, cosmetics and medicines, medical screening solutions, and concentrates sold as retail products containing linear or branched alcohols (except methanol) classed as a flammable liquid or solid containing linear or branched alcohols (except methanol) as being excepted from the Hazardous Materials Regulations (HMR). (modes 1, 2, 3, 4, 5)
22084-N | Wing Aviation LLC | 49 CFR Parts 171-180 | To authorize the transportation in commerce of certain hazardous materials in unmanned aircraft as not subject to the Hazardous Materials Regulations (HMR; 49 CFR Parts 171-180) when transported to their final delivery destination. (mode 4)
22085-N | Amazon.com, Inc | 49 CFR Parts 171-180 | To authorize the transportation in commerce of certain hazardous materials as not subject to the Hazardous Materials Regulations (HMR; 49 CFR Parts 171-180) when transported to their final delivery destination. (mode 1)
22086-N | The Alton & Southern Railway | 172.203(a), 174.24(a) | To authorize the use of electronic means to maintain and communicate on board train consist information in lieu of paper documentation. (mode 2)
22087-N | Zipline International Inc | 49 CFR Parts 171-180 | To authorize the transportation in commerce of certain hazardous materials in unmanned aircraft as not subject to the Hazardous Materials Regulations (HMR; 49 CFR Parts 171-180) when transported to their final delivery destination. (mode 4)
22088-N | Arthrex, Inc | 173.185(c), 173.185(e) | To authorize the transportation in commerce of lithium-ion batteries packaged in equipment exceeding the 30% state of charge for decontamination or servicing. (mode 4)

[FR Doc. 2025-17015 Filed 9-4-25; 8:45 am]

BILLING CODE P